DEPARTMENT OF AGRICULTURE

Forest Service

Shasta-Trinity National Forest, California; Pilgrim Vegetation Management Project

AGENCY: Forest Service, USDA.

ACTION: Notice of intent to prepare an environmental impact statement.

SUMMARY: The Shasta-Trinity National Forest proposes to harvest timber and clean up the resulting down wood (fuels) on approximately 3,770 acres of National Forest System lands. About 90% of the area would be harvested through thinning by removing a portion of the trees from overcrowded forest stands. Trees removed would be those infected with disease or insects and generally smaller in size than those left behind. Most of the trees on the remaining 10% are infected by disease and insects and would be removed. Young tree seedlings would be planted in the openings created in these areas. The project area is in T40 and 41N, R1W, MDM., about 10 miles northeast of the town of McCloud, California. Most of the project area is zoned by the Forest Land and Resource Management Plan as Matrix land. About one percent of the area is zoned as Riparian Reserve (areas adjacent to streams or other wetlands).

DATES: Comments concerning the scope of the analysis should be received no later than 30 days after the publication of this notice in the Federal Register. The draft environmental impact statement is expected in June 2005 and the final environmental impact statement is expected in September 2005.

ADDRESSES: Send written comments to District Ranger Michael Hupp, Shasta-McCloud Management Unit, 204 W. Alma St., Mt. Shasta, California 96067.

FOR FURTHER INFORMATION CONTACT: Steve Funk, McCloud Ranger Station, P.O. Box 1620, McCloud, California 96057, telephone (530) 964-3770 or via e-mail at sfunk@fs.fed.us.

SUPPLEMENTARY INFORMATION:

Purpose and Need for Action

Thinning will reduce overcrowded conditions in forest areas where too many trees currently exist. Reducing density will improve the health of these forest areas by making more water, nutrients and sunlight available for use by the remaining trees (conifers and hardwoods). This will improve the health of the forest and improve tree resistance to insects, pathogens and drought. Too many small trees in the understory can act as a fuel ladder and carry fire into the canopy layer of the forest resulting in the death of a large number of trees. Small trees act as a fuel ladder because their crowns are closer to the ground and allow flames to move into the canopy. Removing small trees raises the crown base height and reduces the likelihood of flames reaching the canopy layer.

The removal of groups of trees and re-planting with tree seedlings is being proposed to re-establish live trees in areas where most are dead or dying from insects, pathogens and drought. The harvest and sale of wood products will provide wood products to society and offset the cost of treatment.

Proposed Action

The project will include the following treatments:

1. Thinning harvests on approximately 3,380 acres.

a. On 780 acres of 25-45 year old pine stands, thin from below to a spacing of approximately 20 feet. About 90% of these stands are older plantations. The resulting product will be primarily wood chips.

b. On approximately 1,480 acres of 75-95 year old stands, thin to a density appropriate for ponderosa pine stands (approximately 120-150 square feet of basal area).

c. On approximately 1,080 acres of 75-95 year old pine stands, thin to a slightly more open condition than “b” (approximately 100-120 square feet of basal area) by removing additional dead, dying and diseased trees in pockets infected with root diseases and maintain pine savanna stands in historic openings.

d. On approximately 40 acres, thin two-storied mature stands to reduce understory ladder fuels and maintain older trees, especially pines.

On all of the thinning harvests, small-diameter trees not needed for optimum stocking will be removed as wood chips. After the harvest treatments the project area would be treated to reduce accumulations of down wood and deep needle slash by underburning 200 acres and tractor piling and burning 1,000 acres.

e. Release aspen from conifer competition on approximately 16 acres by removing conifers within 150 feet of aspen.

2. Harvest 10 acres of knobcone pine for sale as wood chips. Tractor pile residual slash and re-plant with ponderosa pine.

3. Harvest and re-plant approximately 370 acres of 95-110 year old pine suffering from root disease and bark beetle mortality. Leave healthy white fir, incense-cedar, sugar pine, Douglas-fir and black oak. Remove wood products. Tractor pile residual slash. Re-plant with mixed species in shaded areas, ponderosa pine in open areas. The timber harvest outputs from the entire project are anticipated to be approximately 40-50 thousand CCF (25-30 MMBF) of sawlog products plus approximately 3,000 tons of chipped wood products.

The proposed action includes borax application on stumps to prevent the spread of annosus root disease, but does not include the use of herbicides or pesticides. The project may include the construction of short lengths of temporary road and the closure or decommissioning of other roads.

Lead and Cooperating Agencies

Lead Agency: USDA, Forest Service.

Responsible Official

J. Sharon Heywood, Forest Supervisor, Shasta-Trinity National Forest, 3644 Avtech Parkway, Redding, CA 96002.

Nature of Decision To Be Made

The Forest Supervisor will decide whether to implement the proposed action, take an alternative action that meets the purpose and need, or take no action.

Scoping Process

The project is included in the Shasta-Trinity National Forest's quarterly schedule of proposed actions (SOPA). Information on the proposed action will also be posted on the forest Web site, http://www.fs.fed.us/r5.shastatrinity/projects, and advertised in the Mt. Shasta Herald. A field trip will be held for interested parties in May of 2005. This notice of intent intimates the scoping process, which guides the development of the environmental impact statement. Comments submitted during this scoping process should be in writing and should be specific to the proposed action. The comments should describe as clearly and completely as possible any issue the commenter has with the proposal. The scoping process includes:

(a) Identifying potential issues.

(b) Identifying issues to be analyzed in depth.

(c) Eliminating non-significant issues or those previously covered by a relevant previous environmental analysis.

(d) Exploring additional alternatives.

(e) Identifying potential environmental effects of the proposed action and alternatives.

Early Notice of Importance of Public Participation in Subsequent Environmental Review: A draft environmental impact statement will be prepared for comment. The comment period on the draft environmental impact statement will be 45 days from the date the Environmental Protection Agency publishes the notice of availability in the Federal Register. The Forest Service believes it is important to give reviewers notice of several court rulings related to public participation in the environmental review process. First, reviewers of draft environmental impact statements must structure their participation in the environmental review of the proposal so that it is meaningful and alerts an agency to the reviewer's position and contentions. (Vermont Yankee Nuclear Power Corp. v. NRDC, 435 U.S. 519, 553 (1978)). Also, environmental objections that could be raised at the draft environmental impact statement stage but that are not raised until after completion of the final environmental impact statement may be dismissed by the courts. (City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period thus ensuring substantive comments and objections are available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: January 24, 2005.
J. Sharon Heywood,
Forest Supervisor, Shasta-Trinity National Forest.

[FR Doc. 05-2767 Filed 2-11-05; 8:45 am]

BILLING CODE 3410-11-M